COMMITTEE FOR THE IMPLEMENTATION OF TEXTILE AGREEMENTS

Request for Public Comments on Commercial Availability Petition under the African Growth and Opportunity Act (AGOA) and the United States - Caribbean Basin Trade Partnership Act (CBTPA)

November 6, 2003.

AGENCY: The Committee for the Implementation of Textile Agreements

ACTION: Request for public comments concerning a petition for a determination that micro-denier 30 singles and 36 singles solution-dyed, open-end spun, staple spun viscose yarns, produced on open-ended spindles, cannot be supplied by the domestic industry in commercial quantities in a timely manner under the AGOA and CBTPA.

SUMMARY: On November 3, 2003, the Chairman of CITA received a petition from Fabrictex alleging that micro-denier 30 singles and 36 singles solution-dyed, open-end spun, staple spun viscose yarns produced on open-ended spindles, for use in manufacturing fabrics, classified in subheading 5510.11.0000 of the Harmonized Tariff Schedule of the United States (HTSUS), cannot be supplied by the domestic industry in commercial quantities in a timely manner. The petition requests that apparel articles of U.S. formed fabrics of such yarns assembled in one or more AGOA or CBTPA beneficiary countries be eligible for preferential treatment under the AGOA and the CBTPA. CITA hereby solicits public comments on this petition, in particular with regard to whether this yarn can be supplied by the domestic industry in commercial quantities in a timely manner. Comments must be submitted by November 28, 2003 to the Chairman, Committee for the Implementation of Textile Agreements, Room 3001, United States Department of Commerce, 14th and Constitution, N.W., Washington, D.C. 20230.

FOR FURTHER INFORMATION CONTACT: Janet E. Heinzen, International Trade Specialist, Office of Textiles and Apparel, U.S. Department of Commerce, (202) 482-3400.

SUPPLEMENTARY INFORMATION:

Authority: Section 112(b)(5)(B) of the AGOA; Section 213(b)(2)(A)(v)(II) of the CBERA, as added by Section 211(a) of the CBTPA; Sections 1 and 6 of Executive Order No. 13191 of January 17, 2001.

Background

The AGOA and the CBTPA provide for quota- and duty-free treatment for qualifying textile and apparel products. Such treatment is generally limited to products manufactured from yarns or fabrics formed in the United States. The AGOA and the CBTPA also provide for quota- and duty-free treatment for apparel articles that are both cut (or knit-to-shape) and sewn or otherwise assembled in one or more AGOA or CBTPA beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the AGOA and the CBTPA and directed CITA to establish procedures to ensure appropriate public participation in any such determination. On March 6, 2001, CITA published procedures that it will follow in considering requests. (66 FR 13502).

On November 3, 2003, the Chairman of CITA received a petition from Fabrictex alleging that micro-denier 30 singles and 36 singles solution-dyed, open-end spun, staple spun viscose yarn, produced on open-ended spindles, for use in manufacturing fabrics, classified in HTSUS subheading 5510.11.0000, cannot be supplied by the domestic industry in commercial quantities in a timely manner and requesting quota- and duty-free treatment under the AGOA and the CBTPA for apparel articles that are cut and sewn in one or more AGOA or CBTPA beneficiary countries from U.S. formed fabrics containing such yarns. Two petitions submitted by Fabrictex on solution-dyed, open-end spun, staple spun viscose yarn were denied by CITA in May and August of 2001.

CITA is soliciting public comments regarding this request, particularly with respect to whether this yarn can be supplied by the domestic industry in commercial quantities in a timely manner. Also relevant is whether other yarns that are supplied by the domestic industry in commercial quantities in a timely manner are substitutable for the yarn for purposes of the intended use. Comments must be received no later than November 28, 2003. Interested persons are invited to submit six copies of such comments or information to the Chairman, Committee for the Implementation of Textile Agreements, room 3100, U.S. Department of Commerce, 14th and Constitution Avenue, N.W., Washington, DC 20230.

If a comment alleges that this yarn can be supplied by the domestic industry in commercial quantities in a timely manner, CITA will closely review any supporting documentation, such as a signed statement by a manufacturer of the yarn stating that it produces the yarns that are the subject of the request, including the quantities that can be supplied and the time necessary to fill an order, as well as any relevant information regarding past production.

CITA will protect any business confidential information that is marked “business confidential” from disclosure to the full extent permitted by law. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

James C. Leonard III,
Chairman, Committee for the Implementation of Textile Agreements.

[FR Doc. 03-28341 Filed 11-10-03; 8:45 am]

BILLING CODE 3510-DR-S